DEPARTMENT OF ENERGY

Federal Energy Regulatory Commission

[Docket No. EC02-115-000, et al.]

Catamount Energy Corp., et al.; Electric Rate and Corporate Regulation Filings

September 16, 2002.

The following filings have been made with the Commission. The filings are listed in ascending order within each docket classification.

1. Catamount Energy Corp., TJH Investments LLC, Summersville Hydro Corp., Gauley River Management Corp., Gauley River Power Partners, L.P., CHI Energy, Inc.

[Docket No. EC02-115-000]

Take notice that on September 11, 2002, Catamount Energy Corp. (CEC), TJH Investments LLC (TJH), Summersville Hydro Corp. (Summersville), Gauley River Management Corp.,(Gauley Management) Gauley River Power Partners, L.P., (Gauley Power) CHI Energy, Inc. (collective, the Applicants) filed with the Commission a joint application for the expedited approval of the disposition of jurisdictional facilities pursuant to Section 203 of the Federal Power Act for authorization of the sale by CEC, TJH and Summersville to CHI Energy, Inc.,'s subsidiaries, CHI Finance, Inc., and Gauley Hydro, LLC, of one hundred percent (100%) of the equity interest in Gauley Management and Gauley Power, a power marketer with market-based rate authorization. In addition, GRPP operates the Summersville Hydroelectric Project, a qualifying facility, pursuant to a long-term contract with the City of Summersville, West Virginia.

Comment Date: October 7, 2002.

2. Colorado Energy Management LLC

[Docket No. EG02-184-000

Take notice that on September 11, 2002, Colorado Energy Management LLC, 2575 Park Lane, Suite 200, Lafayette, Colorado 80026 (Applicant), filed with the Federal Energy Regulatory Commission (Commission) an application for determination of exempt wholesale generator status pursuant to part 365 of the Commission's regulations.

The Applicant is a Colorado limited liability company. Commencing September 25, 2002, the Applicant intends to operate a nominal 75-megawatt gas-fired electric cogeneration plant located near Rifle, Colorado (the Facility). The Facility will be owned by Tri-State Generation and Transmission Association, Inc. (Tri-State). Tri-State is not a jurisdictional public utility under the Federal Power Act. All of the electric output of the Facility will be sold by Tri-State at wholesale. The Applicant will operate the Facility as Tri-State's agent, subject to Tri-State's ultimate control and decision-making authority.

Comment Date: October 7, 2002.

3. New York Independent System Operator, Inc.

[Docket Nos. ER00-3591-013 and ER00-1969-015]

Take notice that on September 11, 2002, the New York Independent System Operator, Inc. (NYISO) filed revisions to its Market Administration and Control Area Services Tariff in compliance with the Commission's August 27 Order in the above-captioned proceedings.

The NYISO has requested an effective date of September 30, 2001, for its compliance changes. The NYISO has served a copy of this filing upon parties on the official service lists maintained by the Commission for the above-captioned dockets.

Comment Date: October 2, 2002.

4. Midwest Independent Transmission System Operator, Inc.

[Docket No. ER02-2033-003]

Take notice that on September 10, 2002, the Midwest Independent Transmission System Operator, Inc. (Midwest ISO) and American Transmission Company LLC (ATCLLC) filed an errata to their August 26, 2002 filing in the above-captioned proceeding.

The Midwest ISO states that it has served copies of its filing upon each person designated on the official service list compiled by the Secretary in the above-captioned proceeding.

Comment Date: October 1, 2002.

5. California Independent System Operator Corporation

[Docket No. ER02-2192-001]

Take notice that on September 11, 2002, the California Independent System Operator Corporation (ISO) submitted for filing modifications to the ISO Tariff to comply with the Commission's August 27, 2002 order in the captioned docket concerning Amendment No. 45 to the ISO Tariff, 100 FERC ¶ 61,209. The ISO has served copies of the filing on all parties in the captioned docket.

Comment Date: October 2, 2002.

6. PJM Interconnection, L.L.C.

[Docket No. ER02-2519-001]

Take notice that on September 11, 2002, PJM Interconnection, L.L.C. (PJM), submitted for filing an amendment to its August 29, 2002 filing in this docket. In its August 29, 2002 filing, PJM amended the Appendix of Attachment K of the PJM Open Access Transmission Tariff (PJM Tariff) and Schedule 1 of the Amended and Restated Operating Agreement of PJM Interconnection, L.L.C. (Operating Agreement) to establish a Spinning Reserve market for PJM and PJM West and new compensation rules. PJM amended its August 29, 2002 filing to include conforming amendments to both the PJM Tariff and Operating Agreement consistent with the proposed Spinning Reserve market and new compensation rules.

PJM requests an effective date of December 1, 2002 for the amendments filed on August 29, 2002 and September 11, 2002. Copies of this filing were served upon all parties listed on the official service list in Docket No. ER02-2519-000, all PJM members, and each state electric utility regulatory commission in the PJM control area and PJM West region.

Comment Date: October 2, 2002.

7. PJM Interconnection, L.L.C.

[Docket No. ER02-2547-000]

Take notice that on September 10, 2002 PJM Interconnection, L.L.C. (PJM), submitted for filing an executed interim interconnection service agreement between PJM and Dominion Equipment, Inc. and an executed interconnection service agreement between PJM and Fairless Energy, LLC.

PJM requests a waiver of the Commission's 60-day notice requirement to permit the effective dates agreed to by the parties. Copies of this filing were served upon each of the parties to the agreements and the state regulatory commissions within the PJM region. Comment Date: October 1, 2002.

8. New York Independent System Operator, Inc.

[Docket No. ER02-2548-000]

Take notice that on September 11, 2002, the New York Independent System Operator, Inc. (NYISO) filed revisions to its Market Administration and Control Area Services Tariff (Services Tariff) to provide further clarity and improve the administration of the Installed Capacity market in the New York Control Area.

The NYISO has served a copy of this filing to all parties that have executed Service Agreements under the NYISO's Open-Access Transmission Tariff or Services Tariff, the New York State Public Service Commission and to the electric utility regulatory agencies in New Jersey and Pennsylvania.

Comment Date: October 2, 2002.

9. Occidental Power Services, Inc.

[Docket No. ER02-2549-000]

Take notice that on September 12, 2002, Occidental Power Services, Inc. (OPSI) tendered for filing a proposed amendment to the Western Systems Power Pool (WSPP). The proposed amendment reflects the admission of OPSI to membership in the WSPP. OPSI requests that the Commission authorize the proposed amendment to become effective on September 12, 2002.

Comment Date: October 3, 2002.

10. Tenaska-Oxy Power Services, L.P. [Docket No. ER02-2550-000]

Take notice that on September 12, 2002, Tenaska-Oxy Power Services, L.P., 1701 E. Lamar Boulevard, Suite 100, Arlington, TX 76006 (TOPS) submitted for filing with the Federal Energy Regulatory Commission an application for blanket authorization and certain waivers under regulations of the Commission, and for an order accepting its Rate Schedule FERC No. 1 to be effective the earlier of November 11, 2002, or the date of a Commission order granting approval of its Rate Schedule.

TOPS intends to engage in electric power and energy transactions as a marketer and a broker. In transactions where TOPS purchases power, including capacity and related services from electric utilities, qualifying facilities, and independent power producers, and resells such power to other purchasers, TOPS will be functioning as a marketer. In TOPS' marketing transactions, TOPS proposes to charge rates mutually agreed upon by the parties. In transactions where TOPS does not take title to electric power and/or energy, TOPS will be limited to the role of a broker and will charge a fee for its services. TOPS is not in the business of producing electric power nor does it contemplate acquiring title to any electric power transmission facilities.

Comment Date: October 3, 2002.

Standard Paragraph

E. Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; See 18 CFR 385.2001(a)(1)(iii) and the instructions on the Commission's web site under the “e-Filing” link.

Magalie R. Salas,
Secretary.

[FR Doc. 02-24040 Filed 9-20-02; 8:45 am]

BILLING CODE 6717-01-P